DEPARTMENT OF LABOR

Mine Safety and Health Administration

Petitions for Modification

The following parties have filed petitions to modify the application of existing safety standards under section 101(c) of the Federal Mine Safety and Health Act of 1977.

1. St. Lawrence Zinc Company

[Docket No. M-2004-010-M]

St. Lawrence Zinc Company, P.O. Box 226, Hailesboro, New York 13645 has filed a petition to modify the application of 30 CFR 57.14106 (Falling object protection) to its No. 4 Mine (MSHA I.D. No. 30-01185) located in St. Lawrence County, New York. The petitioner proposes to use low profile mini-jumbos and two (2) yard load haul dumps without canopies in new mining areas with low height stopes in the No. 4 Mine. The petitioner states that ore drifts of nine (9) feet high and eight (8) feet wide will be maintained in the new mining areas, and the ore veins plunge approximately 25 degrees, thereby reducing the height of the stope (shanty back strike drifts). The petitioner asserts that the proposed alternative method would provide at least the same measure of protection as the existing standard.

2. Cumberland Coal Resources, LP

[Docket No. M-2004-052-C]

Cumberland Coal Resources, LP, Three Gateway Center, 401 Liberty Avenue, Suite 1340, Pittsburgh, Pennsylvania 15222 has filed a petition to modify the application of 30 CFR 75.364(b)(1) (Weekly examination) to its Cumberland Mine (I.D. No. 36-05018) located in Greene County, Pennsylvania. The petitioner requests a modification of the existing standard to permit the use of air monitoring stations at a sump in an intake airway in lieu of traveling the entry in its entirety. The petitioner asserts that the proposed alternative method would provide at least the same measure of protection as the existing standard.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before January 28, 2005. Copies of these petitions are available for inspection at that address.

Dated at Arlington, Virginia this 22nd day of December, 2004.
Marvin W. Nichols, Jr.,
Director, Office of Standards, Regulations, and Variances.

[FR Doc. 04-28475 Filed 12-28-04; 8:45 am]

BILLING CODE 4510-43-P